DEPARTMENT OF HOMELAND SECURITY

Coast Guard

33 CFR Part 100

[Docket No. USCG-2018-0254]

Special Local Regulations; Marine Events Within the Fifth Coast Guard District

AGENCY: Coast Guard, DHS.

ACTION: Notice of enforcement of regulation.

SUMMARY: The Coast Guard will enforce special local regulations for two events, the Cambridge Classic Powerboat Race on May 19, 2018 and May 20, 2018, and the NAS Patuxent River Air Show from May 31, 2018 through June 3, 2018, to provide for the safety of life on navigable waterways during these events. Our regulation for marine events within the Fifth Coast Guard District identifies the regulated area for each event. During the enforcement periods, the Coast Guard patrol commander or designated marine event patrol may forbid and control the movement of all vessels in the regulated area.

DATES: The regulations in 33 CFR 100.501 will be enforced for the Cambridge Classic Powerboat Race regulated area listed in item b.21 in the Table to § 100.501 from 9:30 a.m. to 5:30 p.m. on May 19, 2018 and from 9:30 a.m. to 5:30 p.m. on May 20, 2018; the regulations in 33 CFR 100.501 will be enforced for the NAS Patuxent River Air Show regulated area listed in item b.18 in the Table to § 100.501 from 7:30 a.m. to 6:30 p.m. each day from May 31, 2018 through June 3, 2018.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION:

The Coast Guard was notified by the Cambridge Power Boat Racing Association, Inc. on January 30, 2018, through submission of a marine event application, that due to a scheduling change, a change of dates is necessary to the dates previously published in the Code of Federal Regulations (CFR) for the annually scheduled Cambridge Classic Powerboat Race, as listed in the Table to 33 CFR 100.501. The date of the event is changed to May 19, 2018 and May 20, 2018. The Coast Guard will enforce the special local regulations in 33 CFR 100.501 for the Cambridge Classic Powerboat Race regulated area from 9:30 a.m. to 5:30 p.m. on May 19 and from 9:30 a.m. to 5:30 p.m. on May 20, 2018. Our regulation for marine events within the Fifth Coast Guard District, § 100.501, specifies the location of the regulated area for the Cambridge Classic Powerboat Race, which encompasses portions of Hambrooks Bay and the Choptank River, at Cambridge, MD.

The Coast Guard was notified by NAS Patuxent River on February 14, 2018 through submission of a marine event application that, due to a scheduling change, a change of dates is necessary to the dates previously published in the Code of Federal Regulations (CFR) for the biennially scheduled NAS Patuxent River Air Show, as listed in the Table to 33 CFR 100.501. The date of the event is changed to from May 31, 2018 through June 3, 2018. The Coast Guard will enforce the special local regulations in 33 CFR 100.501 for the NAS Patuxent River Air Show regulated area from 7:30 a.m. to 6:30 p.m. each day from May 31, 2018 through June 3, 2018. Our regulation for marine events within the Fifth Coast Guard District, § 100.501, specifies the location of the regulated area for the NAS Patuxent River Air Show, which encompasses portions of the Patuxent River and Chesapeake Bay, at Patuxent River, MD.

This action is being taken to provide for the safety of life on navigable waterways during these events. As specified in § 100.501(c), during the enforcement periods, the Coast Guard patrol commander or designated marine event patrol may forbid and control the movement of all vessels in the regulated area. Vessel operators may request permission to enter and transit through a regulated area by contacting the Coast Guard patrol commander on VHF-FM channel 16.

This notice of enforcement is issued under authority of 33 CFR 100.501(f) and 5 U.S.C. 552(a). In addition to this notice of enforcement in the Federal Register, the Coast Guard plans to provide notification of these enforcement periods on scene and via the Local Notice to Mariners and marine information broadcasts.

Dated: March 29, 2018.
Lonnie P. Harrison, Jr.,
Captain, U.S. Coast Guard, Captain of the Port Maryland-National Capital Region.

[FR Doc. 2018-06824 Filed 4-3-18; 8:45 am]

BILLING CODE 9110-04-P